ENVIRONMENTAL PROTECTION AGENCY

40 CFR Parts 174 and 180

[EPA-HQ-OPP-2022-0161; FRL-9410-12-OCSPP]

Receipt of Pesticide Petitions Filed for Residues of Pesticide Chemicals in or on Various Commodities March 2022

AGENCY: Environmental Protection Agency (EPA).

ACTION: Notices of filing of petitions and request for comment.

SUMMARY: This document announces the Agency's receipt of initial filings of pesticide petitions requesting the establishment or modification of regulations for residues of pesticide chemicals in or on various commodities.

DATES: Comments must be received on or before May 31, 2022.

ADDRESSES: Submit your comments, identified by docket identification (ID) number and the pesticide petition (PP) of interest as shown in the body of this document, using the Federal eRulemaking Portal: https://www.regulations.gov. Follow the online instructions for submitting comments. Do not submit electronically any information you consider to be Confidential Business Information (CBI) or other information whose disclosure is restricted by statute. Additional instructions on commenting or visiting the docket, along with more information about dockets generally, is available at https://www.epa.gov/dockets.

Due to the public health concerns related to COVID-19, the EPA Docket Center (EPA/DC) and Reading Room is open to visitors by appointment only. For the latest status information on EPA/DC services and access, visit https://www.epa.gov/dockets.

FOR FURTHER INFORMATION CONTACT: Charles Smith, Biopesticides and Pollution Prevention Division (BPPD) (7511M), main telephone number: (202) 566-2427, email address: BPPDFRNotices@epa.gov; or Marietta Echeverria, Registration Division (RD) (7505P), main telephone number: (703) 305-7090, email address: RDFRNotices@epa.gov. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain data or information prescribed in FFDCA section 408(d)(2), 21 U.S.C. 346a(d)(2); however, EPA has not fully evaluated the sufficiency of the submitted data at this time or whether the data supports granting of the pesticide petitions. After considering the public comments, EPA intends to evaluate whether and what action may be warranted. Additional data may be needed before EPA can make a final determination on these pesticide petitions.

Pursuant to 40 CFR 180.7(f), summaries of the petitions that are the subject of this document, prepared by the petitioners, are included in dockets EPA has created for these rulemakings. The dockets for these petitions are available at https://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit and the corresponding docket.

A. Amended Tolerance Exemptions for Non-Inerts (Except PIPS)

PP 1F8953. (EPA-HQ-OPP-2022-0273). Danstar Ferment Ag/LALLEMAND PLANT CARE, Postsrasse 20, CH-6300 Zug, Switzerland (c/o Amy Plato Roberts, P.O. Box 990, Hailey, ID 83333), requests to amend an exemption from the requirement of a tolerance in 40 CFR 180.1120 for residues of the fungicide Streptomyces sp. strain K61 in or on all food commodities when used in accordance with label directions and good agricultural practices. The petitioner believes no analytical method is needed because it is expected that, when used as proposed, Streptomyces sp. strain K61, would not result in residues that are of toxicological concern. Contact: BPPD.

B. Amended Tolerances for Non-Inerts

1. PP 1E8904. (EPA-HQ-OPP-2021-0387). Interregional Research Project No. 4 (IR-4), North Carolina State University, 1730 Varsity Drive, Venture IV, Suite 210, Raleigh, NC 27606, requests to amend 40 CFR part 180 by removing the tolerance for residues of the insecticide cyclaniliprole, 3-bromo-N-[2-bromo-4-chloro-6-[[(1-cyclopropylethyl)amino]carbonyl]phenyl]-1-(3-chloro-2-pyridinyl)-1H-pyrazole-5-carboxamide, including its metabolites and degradates, in or on the raw agricultural commodity Vegetable, fruiting, group8-10 at 0.20 ppm. Contact: RD.

2. PP 1E8935. (EPA-HQ-OPP-2021-0657). Interregional Research Project #4 (IR-4), North Carolina State University, 1730 Varsity Drive, Venture IV, Suite 210, Raleigh, NC 27606, requests, pursuant to section 408(d) of the Federal Food, Drug, and Cosmetic Act (FFDCA), 21 U.S.C. 346a(d), to amend 40 CFR part 180 by removing established tolerances for residues of dodine in or on the raw agricultural commodities Apple at 5.0 ppm; Fruit, stone, crop group 12 at 5.0 ppm; Nuts, tree, crop group 14 at 0.3 ppm; and Pear at 5.0 ppm. Contact: RD.

3. PP 1E8957. (EPA-HQ-OPP-2022-0005). Interregional Research Project #4 (IR-4), North Carolina State University, 1730 Varsity Drive, Venture IV, Suite 210, Raleigh, NC 27606, requests to amend 40 CFR part 180 by removing the established tolerances of fomesafen, 5-2-chloro-4-(trifluoromethyl)phenoxy-N-(methylsulfonyl)-2-nitrobenzamide in or on the raw agricultural commodities: Cantaloupe at 0.025 parts per million (ppm); Cucumber at 0.025 ppm; Pepper, bell at 0.025 ppm; Pepper, non-bell at 0.025 ppm; Pumpkin at 0.025 ppm; Squash, summer at 0.025 ppm; Squash, winter at 0.025 ppm; Tomato at 0.025 ppm; and Watermelon at 0.025 ppm. Contact: RD.

4. PP 1E8980. (EPA-HQ-OPP-2022-0234). Interregional Research Project No. 4 (IR-4) North Carolina State University, 1730 Varsity Drive, Suite 210, Venture IV, Raleigh, NC 27606, proposes upon establishment of tolerances referenced in this document under “New Tolerances” for PP#1E8980, to remove existing tolerances in 40 CFR 180.666 for residues of the fungicide, fluxapyroxad, 3-(difluoromethyl)-1-methyl-N-(3′,4′,5′-trifluoro[1,1′-biphenyl]-2-yl)-1H-pyrazole-4-carboxamide in or on Coffee, green bean¹ at 0.2 parts per million (ppm). Contact: RD.

5. PP 1E8981. (EPA-HQ-OPP-2022-0235). Interregional Research Project No. 4 (IR-4) North Carolina State University, 1730 Varsity Drive, Suite 210, Venture IV, Raleigh, NC 2760, proposes upon establishment of tolerances referenced in this document under “New Tolerances” for PP#1E8981, to remove existing tolerances in 40 CFR 180.582 for residues of the fungicide pyraclostrobin, (carbamic acid, [2-[[[ 1-(4-chlorophenyl)-1H-pyrazol-3-yl]oxy] methyl]phenyl]methoxy-, methyl ester) and its desmethoxy metabolite (methyl-N-[[[1-(4-chlorophenyl)-1H-pyrazol-3-yl]oxy]methyl] phenylcarbamate), calculated as the stoichiometric equivalent of pyraclostrobin in or on in or on Coffee, green bean at ¹0.3 parts per million (ppm). Contact: RD.

C. New Tolerance Exemptions for Non-Inerts (Except PIPS)

1. PP 0F8873. (EPA-HQ-OPP-2021-0422). Amoéba SA, 38 ave des Frères Montgolfier, F-69680 Chassieu, France (c/o SciReg, Inc., 12733 Director's Loop, Woodbridge, VA 22192), requests to establish an exemption from the requirement of a tolerance in 40 CFR part 180 for residues of the fungicide and systemic resistance inducer Lysate of Willaertia magna C2c Maky, in or on raw agricultural commodities and processed food. The petitioner believes no analytical method is needed because it is not required for enforcement purposes since the Agency is establishing an exemption from the requirement of a tolerance without any numerical limitation. Contact: BPPD.

2. PP 1F8943. (EPA-HQ-OPP-2022-0323). Chr. Hansen, Inc., 9015 W Maple St., Milwaukee, WI 53214, requests to establish an exemption from the requirement of a tolerance in 40 CFR part 180 for residues of the fungicide and nematicide Bacillus paralicheniformis strain CH0273 in or on all food commodities. The petitioner believes no analytical method is needed because it is not applicable. Contact: BPPD.

3. PP 1F8944. (EPA-HQ-OPP-2022-0318). Chr. Hansen, Inc., 9015 W Maple St., Milwaukee, WI 53214, requests to establish an exemption from the requirement of a tolerance in 40 CFR part 180 for residues of the fungicide and nematicide Bacillus subtilis strain CH4000 in or on all food commodities. The petitioner believes no analytical method is needed because it is not applicable. Contact: BPPD.

4. PP 1G8963. (EPA-HQ-OPP-2022-0233). NewLeaf Symbiotics, Inc., 1005 North Warson Road, St. Louis, MO 63132, requests to establish a temporary exemption from the requirement of a tolerance in 40 CFR part 180 for residues of the insecticide Methylorubrum extorquens strain NLS0042 in or on all food commodities. The petitioner believes no analytical method is needed because it is expected that, when used as proposed, Methylorubrum extorquens strain NLS0042 would not result in residues that are of toxicological concern. Contact: BPPD.

D. New Tolerance Exemptions for PIPS

PP 2F8985. (EPA-HQ-OPP-2022-0231). Bayer CropScience LP, 800 N Lindbergh Blvd. St. Louis, MO 63167, requests to establish an exemption from the requirement of a tolerance in 40 CFR part 174 for residues of the plant-incorporated protectants (PIP) Bacillus thuringiensis Vpb4Da2 and Brevibacillus laterosporus Mpp75Aa1.1 in or on corn. An analytical method to detect and quantify concentrations of Mpp75Aa1.1 and Vpb4Da2 proteins expressed in corn was provided with the petition. Contact: BPPD.

E. New Tolerances for Non-Inerts

1. PP 0E8876. (EPA-HQ-OPP-2021-0130). Interregional Research Project No. 4 (IR-4), IR-4 Project Headquarters, Rutgers, The State University of NJ, 500 College Road East, Suite 201 W, Princeton, NJ 08540, requests to amend 40 CFR part 180 by establishing a tolerance for residues of ethalfluralin, N-ethyl-N-(2-methyl-2-propenyl)-2,6-dinitro-4-(trifluoromethyl)benzenamine in or on the raw agricultural commodity Stevia, fresh leaves at 0.05 parts per million (ppm). Adequate analytical methods for determining ethalfluralin in/on appropriate raw agricultural commodities and processed commodities have been developed and validated. Contact: RD.

2. PP 0E8882. (EPA-HQ-OPP-2021-0153). Interregional Research Project No. 4 (IR-4), IR-4 Project Headquarters, Rutgers, The State University of NJ, 500 College Road East, Suite 201 W, Princeton, NJ 08540, requests to amend 40 CFR part 180 by establishing tolerances for residues of novaluron, including its metabolites and degradates, in or on the following commodities. Compliance with the tolerance levels is to be determined by measuring only novaluron, (N-3-chloro-4-1,1,2-trifluoro-2-(trifluoromethoxy)ethoxyphenylaminocarbonyl-2,-difluorobenzamide), in or on the following raw agricultural commodities: Bean, phaseolus, forage at 15 parts per million (ppm); Cowpea forage at 15 ppm; Pea field, forage at 15 ppm; Bean phaseolus, hay at 80 ppm; Cowpea, hay at 80 ppm; and Pea, field, hay at 80 ppm. Adequate analytical methods for determining novaluron in/on appropriate raw agricultural commodities and processed commodities have been developed and validated. Contact: RD.

3. PP 1E8904. (EPA-HQ-OPP-2021-0387). Interregional Research Project No. 4 (IR-4), North Carolina State University, 1730 Varsity Drive, Venture IV, Suite 210, Raleigh, NC 27606, requests to amend 40 CFR part 180 by establishing tolerances for residues of the insecticide cyclaniliprole, 3-bromo-N-[2-bromo-4-chloro-6-[[(1-cyclopropylethyl)amino]carbonyl]phenyl]-1-(3-chloro-2-pyridinyl)-1H-pyrazole-5-carboxamide, including its metabolites and degradates, in or on the raw agricultural commodities: Artichoke, globe at 1.5 parts per million (ppm); Sunflower subgroup 20B at 0.4 ppm; Pepper/eggplant ground 8-10B at 1.5 ppm; Tomato subgroup 8-10A at 0.6 ppm; Hog, meat at 0.01 ppm; Hog, fat at 0.015 ppm; Hog, meat byproducts at 0.015 ppm; Egg at 0.01 ppm; Poultry, meat at 0.01 ppm; Poultry, fat at 0.015 ppm; and Poultry, meat byproducts at 0.015 ppm. A practical analytical method for Cyclaniliprole and NK-1375 using Liquid Chromatography-MS/MS is available for analysis of all plant matrices. This method has been confirmed through independent laboratory validation and is available for enforcement purposes. Contact: RD.

4. PP 1E8935. (EPA-HQ-OPP-2021-0657). Interregional Research Project #4 (IR-4), North Carolina State University, 1730 Varsity Drive, Venture IV, Suite 210, Raleigh, NC 27606, requests, pursuant to section 408(d) of the Federal Food, Drug, and Cosmetic Act (FFDCA), 21 U.S.C. 346a(d), to amend 40 CFR part 180 by establishing tolerances for residues of dodine, N-dodecylguanidine acetate in or on the raw agricultural commodities Fruit, pome, group 11-10 at 5 parts per million (ppm); Fruit, stone, group 12-12 at 5 ppm; Nut, tree, group 14-12 at 0.3 ppm; and Olive, with pit at 0.3 ppm.. Adequate analytical methods for determining dodine in/on appropriate raw agricultural commodities and processed commodities have been developed and validated. Contact: RD.

5. PP 1E8957. (EPA-HQ-OPP-2022-0005). Interregional Research Project #4 (IR-4), North Carolina State University, 1730 Varsity Drive, Venture IV, Suite 210, Raleigh, NC 27606, requests, pursuant to section 408(d) of the Federal Food, Drug, and Cosmetic Act (FFDCA), 21 U.S.C. 346a(d), to amend 40 CFR part 180 by establishing tolerances for residues of fomesafen, 5-2-chloro-4-(trifluoromethyl)phenoxy-N-(methylsulfonyl)-2-nitrobenzamide in or on the raw agricultural commodities Vegetable, bulb, group 3-07 at 0.02 parts per million (ppm); Vegetable, cucurbit, group 9 at 0.025 ppm; Vegetable, foliage of legume, except soybean, subgroup 7A at 0.05 ppm; and Vegetable, fruiting, group 8-10 at 0.025 ppm. Adequate analytical methods for determining fomesafen in/on appropriate raw agricultural commodities and processed commodities have been developed and validated. Contact: RD.

6. PP 1E8966. (EPA-HQ-OPP-2022-0069). Interregional Research Project #4 (IR-4), North Carolina State University, 1730 Varsity Drive, Venture IV, Suite 210, Raleigh, NC 27606, requests, pursuant to section 408(d) of the Federal Food, Drug, and Cosmetic Act (FFDCA), 21 U.S.C. 346a(d), to amend 40 CFR part 180 by establishing a tolerance for residues of Trinexapac-ethyl in or on the raw agricultural commodity clover, forage at 8 parts per million (ppm) and clover, hay at 15 (ppm). As a result of feeding clover that has been treated with trinexapac-ethyl to livestock, the following tolerances are proposed in livestock commodities: Cattle, fat; cattle, meat; goat, fat; goat, meat; horse, fat; horse, meat; sheep, fat; and sheep, meat at 0.03 ppm. Adequate analytical methods for determining trinexapac-ethyl in/on appropriate raw agricultural commodities and processed commodities have been developed and validated. Contact: RD.

7. PP 1E8980. (EPA-HQ-OPP-2022-0234). Interregional Research Project No. 4 (IR-4) North Carolina State University, 1730 Varsity Drive, Suite 210, Venture IV, Raleigh, NC 27606, requests to establish a tolerance in 40 CFR 180.666 for residues of the fungicide, fluxapyroxad, 3-(difluoromethyl)-1-methyl-N-(3′,4′,5′-trifluoro[1,1′-biphenyl]-2-yl)-1H-pyrazole-4-carboxamide in or on Coffee, green bean at 0.2 parts per million (ppm), Stevia, dried leaves at 60 ppm, and Stevia, fresh leaves at 20 ppm. The Method for the Determination of BAS 700 F (Reg. No. 5094351) and its Metabolites M700F002 (Reg. No. 5435595), M700F008 (Reg. No. 5566402) and M700F048 (Reg. No. 5570265) in Plant Matrices and Processed Fractions”, Dated October 7, 2009; is used to measure and evaluate the chemical. Contact: RD.

8. PP 1E8981. (EPA-HQ-OPP-2022-0235). Interregional Research Project No. 4 (IR-4) North Carolina State University, 1730 Varsity Drive, Suite 210, Venture IV, Raleigh, NC 2760, requests to establish a tolerance in 40 CFR 180.582 for residues of the fungicide pyraclostrobin, (carbamic acid, [2-[[[ 1-(4-chlorophenyl)-1H-pyrazol-3-yl]oxy] methyl]phenyl]methoxy-, methyl ester) and its desmethoxy metabolite (methyl-N-[[[1-(4-chlorophenyl)-1H-pyrazol-3-yl]oxy]methyl] phenylcarbamate), calculated as the stoichiometric equivalent of pyraclostrobin in or on Coffee, green bean at 0.3 parts per million (ppm), Stevia, dried leaves at 150 ppm, and Stevia, fresh leaves at 40 ppm. The Method for the Determination of BAS 421 F, BAS 480 F, BAS 500 F, BF 500-3, BAS 505 F, BAS 510 F, BAS 550 F, BAS 555 F, BAS 560 F and BAS 700 F in Plant Matrices”, Dated June 2008 is used to measure and evaluate the chemical. Contact: RD.

Authority: 21 U.S.C. 346a.

Dated: April 18, 2022.
Delores Barber,
Director, Information Technology and Resources Management Division, Office of Program Support.

[FR Doc. 2022-09145 Filed 4-27-22; 8:45 am]

BILLING CODE 6560-50-P